DEPARTMENT OF HEALTH AND HUMAN SERVICES

National Institutes of Health

Center for Scientific Review; Amended Notice of Meeting

Notice is hereby given of a change in the meeting of the Center for Scientific Review Special Emphasis Panel, October 11, 2013, 08:00 a.m. to October 11, 2013, 06:00 p.m., Doubletree Hotel Washington, 1515 Rhode Island Ave. NW., Washington, DC 20005 which was published in the Federal Register on September 12, 2013, 78 FR 56239.

The meeting will be held on December 13, 2013 from 11:30 a.m. to 12:30 p.m. The meeting location remains the same. The meeting is closed to the public.

Dated: October 29, 2013.
Melanie J. Gray,
Program Analyst, Office of Federal Advisory Committee Policy.

[FR Doc. 2013-26176 Filed 11-1-13; 8:45 am]

BILLING CODE 4140-01-P